DEPARTMENT OF THE INTERIOR

National Park Service

General Management Plan/Environmental Impact Statement, Hovenweep National Monument, Colorado and Utah

AGENCY: National Park Service, Department of the Interior.

ACTION: Notice of Intent to prepare an environmental impact statement for a general management plan for Hovenweep National Monument.

SUMMARY: Under the provisions of the National Environmental Policy Act, the National Park Service is preparing an environmental impact statement for a general management plan for Hovenweep National Monument. This effort will result in a comprehensive general management plan that provides a framework for making management decisions regarding the preservation of natural and cultural resources, visitor use and interpretation, and development of appropriate park facilities. In cooperation with the Bureau of Land Management, the United States Forest Service, the Colorado and Utah State Historic Preservation Offices, and Utah State Parks, attention will also be given to resources outside the boundaries that affect the integrity of Hovenweep National Monument. Alternatives to be considered include no-action, the proposed action and other reasonable alternatives.

Major opportunities and concerns at Hovenweep National Monument include:

1. Hovenweep NM does not have a general management plan to provide a comprehensive vision for the monument and forum for public input on the management of the monument. The creation of a new national monument, the Canyon of the Ancients increases the need for interagency cooperation and consultation on issues relating to resource protection, visitor education and enjoyment of these resources.

2. Oil and gas development and pressure to explore and develop other reserves on lands adjacent to the monument poses the potential for impacts on the monument's natural and cultural resources.

3. Grazing on lands adjacent to the monument has resulted in domestic livestock encroaching on park lands, posing adverse impacts on the park's archeological resources and habitat for native species.

4. The monument does not have an adequate maintenance facility.

5. The monument relies heavily on partnerships with a number of state, tribal, private and academic agencies, organizations and institutions. The general management planning process will provide a forum for discussion and consultation that will strengthen the foundations of these partnerships.

A public forum for comment on the full range of appropriate visitor experiences will be provided throughout the course of the GMP process. Public involvement is essential for the development of creative solutions to guide future park management.

A briefing statement has been prepared that summarizes the issues identified to date. Copies of that information may be obtained from: Superintendent, Hovenweep National Monument.

DATES: The Park Service will accept comments from the public for 30 days from the date this notice is published in the Federal Register.

ADDRESSES: Information will be available for public review and comment in the office of the Superintendent, Greg Dudgeon, Hovenweep National Monument. The director, Intermountain Region, National Park Service will approve the environmental impact statement.

The National Park Service will conduct public scoping (public meetings and solicitation of comments from state, county and town agencies and organizations; park neighbors; state historic preservation officer; and associated American Indian tribes) for the Hovenweep General Management Plan/Environmental Impact Statement from July, 2003 to August, 2005. Public involvement will play a critical role in the preparation of the environmental impact statement that will analyze the impacts of the management alternatives in the draft general management plan.

DATES: The National Park Service will conduct further public scoping for the draft alternatives and environmental impact statement for a period of 30-days beyond publication of this Notice of Intent.

ADDRESSES: You may mail comments to: Superintendent's Office, Hovenweep National Monument, McElmo Route, Cortez, CO 81321. You may also hand-deliver comments to the Superintendent's Office, Hovenweep National Monument, Cortez, CO. (Attn: General Management Plan).

FOR FURTHER INFORMATION CONTACT: Contact Superintendent Greg Dudgeon at 435.719.2100 or e-mail: hove_superintendent@nps.gov.

SUPPLEMENTARY INFORMATION: Our practice is to make comments, including names and home addresses of respondents, available for public review during regular business hours. Individual respondents may request that we withhold their home address from the record, which we will honor to the extent allowable by law. If you wish us to withhold your address, you must state this prominently at the beginning of your comment. We will make all submissions from organizations or businesses, and from individuals identifying themselves as representatives or officials of organizations or businesses, available for public inspection in their entirety.

Dated: June 20, 2003.
Karen P. Wade,
Director, Intermountain Region, National Park Service.

[FR Doc. 03-21974 Filed 8-27-03; 8:45 am]

BILLING CODE 4312-70-P